DEPARTMENT OF AGRICULTURE

Forest Service

Sawtooth National Forest; Supplement to the North Sheep Grazing Allotments Final Environmental Impact Statement

AGENCY: Forest Service, USDA.

ACTION: Notice of intent to supplement an environmental impact statement.

SUMMARY: The Forest Service will prepare a supplement (Supplement) to the environmental impact statement (EIS) for the North Sheep Grazing Allotment Final EIS. The Supplement will include additional analyses and new information concerning Management Indicator Species (MIS), capable and suitable grazing lands, and adaptive management strategies.

DATES: Comments concerning the scope of the analysis must be received 45 days after publication of the draft Supplement. The draft Supplement is expected at the end of August 2007 and the final Supplement is expected to be available January 2008.

ADDRESSES: Send written comments to Sawtooth National Forest; Attn: North Sheep Allotments Supplement; 5 North Fork Canyon Road, Ketchum, Idaho 83340; or via telephone at (208) 727-5000; or you may hand-deliver your comments to the Sawtooth National Recreation Office, located at 5 North Fork Canyon Road, Ketchum, during normal business hours from 8 a.m. to 4:30 p.m., Monday through Friday, excluding Federal holidays. Electronic comments must be submitted in a format such as an e-mail message, plain text (.txt), rich text format (.rtf), and Word (.doc) to: comments-intermtn-sawtooth@fs.fed.us.

FOR FURTHER INFORMATION CONTACT: Carol Brown, Assistant Forest Planner, at the address above.

SUPPLEMENTARY INFORMATION: The original Notice of Intent for the North Sheep EIS was published in the Federal Register Vol. 68, No. 87, May 6, 2003. A revised Notice of Intent was published in the Federal Register Vol. 68, No. 145, July 9, 2003. On September 30, 2004, two Records of Decision were issued, based on the North Sheep Final EIS. These decisions were appealed in 2004. In 2005, the Appeal Deciding Officer affirmed both decisions.

Purpose and Need for Action

The Supplement will not change the purpose and need for the North Sheep Final EIS which was described on page 1-5.

Proposed Action

The Supplement will not change the proposed action for the North Sheep Final EIS which was described on pages 1-5 through 1-6.

Responsible Official

There are two Responsible Officials involved. For decisions regarding the Baker Creek and North Fork-Boulder allotments, the Responsible Official is the District Ranger, Ketchum Ranger District, P.O. Box 2356 (206 Sun Valley Road), Ketchum, Idaho 83340. For the Smiley Creek and Fisher Creek allotments, the Area Ranger of the SNRA is the Responsible Official—5 North Fork Canyon Road; Ketchum, ID 83340.

Nature of Decision To Be Made

Each Responsible Official will review the information on the Supplement and determine if their 2004 Record of Decision based on the North Sheep Final EIS should be modified or if the original decision is to remain in effect and unchanged.

Scoping Process

Public scoping for the Supplement will commence with the publication of this Notice of Intent. Public notices will be placed in local newspapers. Press releases will be distributed to the media.

Comment Requested

This notice of intent initiates the scoping process which guides the development of the Supplement to the North Sheep EIS. The comment period for scoping is 30 days from the date the EPA publishes this notice of intent in the Federal Register. A legal notice will be published in the newspaper of record and a Notice of Availability will be published in the Federal Register to inform the public when supplemental information is available for review and comment. The draft Supplement will be distributed to all parties that received the 2004 North Sheep Final EIS and record of decision and to those parties that filed an appeal of the 2004 North Sheep RODs.

Early Notice of Importance of Public Participation in Subsequent Environmental Review

A draft Supplement to the EIS will be prepared for comment. The comment period on the draft Supplement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final Supplement. To assist the Forest Service in identifying and considering issues and concerns on the proposed action, comments on the draft Supplement should be as specific as possible. It is also helpful if comments refer to specific pages or chapters of the draft Supplement. Comments may also address the adequacy of the draft Supplement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: March 6, 2007.
Jane Kollmeyer,
Sawtooth Forest Supervisor.

[FR Doc. 07-1533 Filed 3-28-07; 8:45 am]

BILLING CODE 3410-11-M